DEPARTMENT OF TRANSPORTATION

Federal Aviation Administration

14 CFR Part 39

[Docket No. FAA-2010-0130; Directorate Identifier 2009-NM-087-AD; Amendment 39-16214; AD 2010-05-05]

RIN 2120-AA64

Airworthiness Directives; BAE SYSTEMS (Operations) Limited Model ATP Airplanes

AGENCY: Federal Aviation Administration (FAA), Department of Transportation (DOT).

ACTION: Final rule; request for comments.

SUMMARY: We are adopting a new airworthiness directive (AD) for the products listed above that would supersede an existing AD. This AD results from mandatory continuing airworthiness information (MCAI) originated by an aviation authority of another country to identify and correct an unsafe condition on an aviation product. The MCAI describes the unsafe condition as:

A review of the results of the final fuselage fatigue test identified the need for additional and revised safety-related fatigue- and environmental inspections for the fuselage. These additional tasks were introduced by Service Bulletin (SB) ATP-51-002 * * *.

As it was determined that these inspections were necessary to maintain the structural integrity of the aeroplane, EASA AD 2006-0090 [which corresponds to FAA AD 2007-15-08] was issued * * *.

Since the original Issue of the SB, three revisions have been published. Revision 1 of the SB included only editorial changes. Revision 2 of the SB corrected the fuselage frame designations in Parts 50 and 50A and extended the allowable time before initial inspection. In addition, the repeat inspection interval in Part 43 of the SB was reduced. In the latest Revision 3 of the SB, the grace period for the initial inspection in Part 50 has been clarified.

* * * * *

The unsafe condition is fatigue cracking of certain structural elements, which could result in reduced structural integrity of the airplane and consequent rapid decompression of the airplane. This AD requires actions that are intended to address the unsafe condition described in the MCAI.

DATES: This AD becomes effective March 12, 2010.

The Director of the Federal Register approved the incorporation by reference of a certain publication listed in the AD as of March 12, 2010.

On September 21, 2006 (71 FR 52418, September 6, 2006), the Director of the Federal Register approved the incorporation by reference of a certain other publication listed in this AD.

We must receive comments on this AD by April 12, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Todd Thompson, International Branch, ANM-116, Transport Airplane Directorate, FAA, 1601 Lind Avenue, SW., Renton, Washington 98057-3356; telephone (425) 227-1175; fax (425) 227-1149.

SUPPLEMENTARY INFORMATION:

Discussion

On July 15, 2007, we issued AD 2007-15-08, Amendment 39-15137 (72 FR 40230, July 24, 2007). That AD required actions intended to address an unsafe condition on the products listed above.

Since we issued AD 2007-15-08, the European Aviation Safety Agency (EASA), which is the Technical Agent for the Member States of the European Community, has issued EASA Airworthiness Directive 2009-0074, dated March 31, 2009 (referred to after this as “the MCAI”), to correct an unsafe condition for the specified products. The MCAI states:

A review of the results of the final fuselage fatigue test identified the need for additional and revised safety-related fatigue- and environmental inspections for the fuselage. These additional tasks were introduced by Service Bulletin (SB) ATP-51-002, which supplemented and in some cases revised those previously published in the Aircraft Maintenance Manual (AMM) Chapter 05-10-17 and the Maintenance Review Board Report (MRBR).

As it was determined that these inspections were necessary to maintain the structural integrity of the aeroplane, EASA AD 2006-0090 [which corresponds to FAA AD 2007-15-08] was issued to require the inspections and, depending on findings, corrective actions as defined in BAE Systems (Operations) Limited SB ATP-51-002 (the SB) at original issue.

Since the original Issue of the SB, three revisions have been published. Revision 1 of the SB included only editorial changes. Revision 2 of the SB corrected the fuselage frame designations in Parts 50 and 50A and extended the allowable time before initial inspection. In addition, the repeat inspection interval in Part 43 of the SB was reduced. In the latest Revision 3 of the SB, the grace period for the initial inspection in Part 50 has been clarified.

Fatigue tasks in Parts 1 through 50 of the SB, i.e. those without an “A” suffix, have now been replicated in AMM Chapter 05-10-17 and MRBR Section 6. In addition, environmental tasks, those identified with an “A” suffix, have now been replicated in MRBR Section 6.

For the reasons described above, this AD retains the requirements of EASA AD 2006-0090, which is superseded, and requires the accomplishment of the inspections and, depending on findings, corrective actions as defined in BAE Systems (Operations) Limited SB ATP-51-002 at Revision 3.

The unsafe condition is fatigue cracking of certain structural elements, which could result in reduced structural integrity of the airplane and consequent rapid decompression of the airplane. The corrective actions include repairing cracking and corrosion, and depending on findings, repairing or replacing damaged components. You may obtain further information by examining the MCAI in the AD docket.

Relevant Service Information

BAE SYSTEMS (Operations) Limited has issued Service Bulletin ATP-51-002, Revision 3, dated April 3, 2008. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Change to Existing AD

This AD retains all requirements of AD 2007-15-08. Since AD 2007-15-08 was issued, the AD format has been revised, and certain paragraphs have been rearranged. As a result, the corresponding paragraph identifiers have changed in this AD, as listed in the following table:

Revised Paragraph Identifiers
Requirement in AD 2007-15-08 | Corresponding requirement in this AD
paragraph (f) | paragraph (g).
paragraph (g) | paragraph (h).
paragraph (h) | paragraph (i).
paragraph (i) | paragraph (j).
paragraph (j) | paragraph (k).
paragraph (k) | paragraph (l).

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2010-0130; Directorate Identifier 2009-NM-087-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15137 (72 FR 40230, July 24, 2007) and adding the following new AD:

2010-05-05 BAE Systems (Operations) Limited: Amendment 39-16214. Docket No. FAA-2010-0130; Directorate Identifier 2009-NM-087-AD.

Effective Date

(a) This airworthiness directive (AD) becomes effective March 12, 2010.

Affected ADs

(b) This AD supersedes AD 2007-15-08, Amendment 39-15137.

Applicability

(c) This AD applies to all BAE Systems (Operations) Limited Model ATP airplanes, certificated in any category.

Note 1: This AD requires revisions to certain operator maintenance documents to include new and revised inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (q) of this AD. The request should include a description of changes to the required inspections that will ensure the continued damage tolerance of the affected structure. The FAA has provided guidance for this determination in Advisory Circular (AC) 25-1529.

Subject

(d) Air Transport Association (ATA) of America Code: 51: Standard Practices/Procedures.

Reason

(e) The mandatory continued airworthiness information (MCAI) states:

A review of the results of the final fuselage fatigue test identified the need for additional and revised safety-related fatigue- and environmental inspections for the fuselage. These additional tasks were introduced by Service Bulletin (SB) ATP-51-002, which supplemented and in some cases revised those previously published in the Aircraft Maintenance Manual (AMM) Chapter 05-10-17 and the Maintenance Review Board Report (MRBR).

As it was determined that these inspections were necessary to maintain the structural integrity of the aeroplane, EASA AD 2006-0090 [which corresponds to FAA AD 2007-15-08] was issued to require the inspections and, depending on findings, corrective actions as defined in BAE Systems (Operations) Limited SB ATP-51-002 (the SB) at original issue.

Since the original Issue of the SB, three revisions have been published. Revision 1 of the SB included only editorial changes. Revision 2 of the SB corrected the fuselage frame designations in Parts 50 and 50A and extended the allowable time before initial inspection. In addition, the repeat inspection interval in Part 43 of the SB was reduced. In the latest Revision 3 of the SB, the grace period for the initial inspection in Part 50 has been clarified.

Fatigue tasks in Parts 1 through 50 of the SB, i.e. those without an “A” suffix, have now been replicated in AMM Chapter 05-10-17 and MRBR Section 6. In addition, environmental tasks, those identified with an “A” suffix, have now been replicated in MRBR Section 6.

For the reasons described above, this AD retains the requirements of EASA AD 2006-0090, which is superseded, and requires the accomplishment of the inspections and, depending on findings, corrective actions as defined in BAE Systems (Operations) Limited SB ATP-51-002 at Revision 3.

The unsafe condition is fatigue cracking of certain structural elements, which could result in reduced structural integrity of the airplane and consequent rapid decompression of the airplane. The corrective actions include repairing cracking and corrosion, and depending on findings, repairing or replacing damaged components.

Compliance

(f) You are responsible for having the actions required by this AD performed within the compliance times specified, unless the actions have already been done.

Restatement of Requirements of AD 2006-18-09, With Revised Compliance Method

Airworthiness Limitations Revision Specified in AD 2000-26-10

(g) Within 30 days after February 7, 2001 (the effective date of AD 2000-26-10, Amendment 39-12060, which was superseded by AD 2005-19-03, which was superseded by AD 2007-15-08), revise the Airworthiness Limitations Section (ALS) of the Instructions for Continued Airworthiness according to a method approved by the Manager, International Branch, ANM-116, Transport Airplane Directorate, FAA. Doing the revision specified in paragraph (h) of this AD replaces Chapters 27, 32, 53, and 54 listed in Section 05-10-11 and Chapters 52, 53, 54, 55, and 57 listed in Section 05-10-17 that are in effect on February 7, 2001, with Chapters 27, 32, 53, and 54 listed in Section 05-10-11, “Mandatory Life Limitations (Airframe)”; and Chapters 52, 53, 54, 55, and 57 listed in Section 05-10-17, “Structurally Significant Items (SSIs)”; both dated July 15, 2004; of the British Aerospace ATP Aircraft Maintenance Manual (AMM). Doing the revision specified in paragraph (l) of this AD replaces Sections 05-10-12, 05-10-15, and 05-10-17 with the corresponding sections specified in paragraph (l) of this AD.

Note 2: Guidance on revising the ALS can be found in Section 05-00-00, dated August 15, 1997, of the British Aerospace ATP AMM, dated October 15, 1999. This section references other chapters of the AMM. The applicable revision level of the referenced chapters is that in effect on February 7, 2001.

Airworthiness Limitations Specified in AD 2005-19-03

(h) Within 30 days after September 28, 2005 (the effective date of AD 2005-19-03, Amendment 39-14268, which was superseded by AD 2006-18-09), revise the ALS of the Instructions for Continued Airworthiness according to a method approved by the Manager, International Branch, ANM-116, Transport Airplane Directorate, FAA. Doing the revision specified in paragraph (i) of this AD replaces certain Chapter 52 and 53 tasks listed in Section 05-10-17, “Structurally Significant Items (SSIs),” dated July 15, 2004, of the British Aerospace ATP AMM, with the corresponding Chapter 52 and 53 tasks listed in BAE SYSTEMS (Operations) Limited Service Bulletin ATP-51-002, dated December 20, 2005. Doing the revision specified in paragraph (l) of this AD replaces Chapters 52, 53, 54, 55, and 57 listed in Section 05-10-17 with the corresponding Section 05-10-17 specified in paragraph (l) of this AD.

Note 3: Guidance on revising the ALS can be found in Chapters 27, 32, 53, and 54 listed in Section 05-10-11, “Mandatory Life Limitations (Airframe)”; and the tasks for Chapters 52, 53, 54, 55, and 57 listed in Section 05-10-17, “Structurally Significant Items (SSIs)”; both dated July 15, 2004; of the British Aerospace ATP AMM. These chapters replace the corresponding chapters in Section 05-00-00, dated August 15, 1997, of the British Aerospace ATP AMM as specified in paragraph (g) of this AD.

New and Revised Airworthiness Limitations in AD 2006-18-09

(i) Within 30 days after September 21, 2006 (the effective date of AD 2006-18-09), revise the ALS of the Instructions for Continued Airworthiness by incorporating the new and revised tasks for Chapters 52 and 53 as specified in BAE SYSTEMS (Operations) Limited Service Bulletin ATP-51-002, dated December 20, 2005, into the ALS. The revised Chapter 52 and 53 tasks replace the corresponding Chapter 52 and 53 tasks in Section 05-10-17, “Structurally Significant Items (SSIs),” dated July 15, 2004, of the British Aerospace ATP AMM, as specified in paragraph (h) of this AD.

(j) Except as provided by paragraph (q) of this AD: After the actions specified in paragraphs (g), (h), and (i) of this AD have been accomplished, no alternative inspections or inspection intervals may be approved for the structural elements specified in the documents listed in paragraphs (g), (h), and (i) of this AD.

No Reporting Required

(k) Although BAE SYSTEMS (Operations) Limited Service Bulletin ATP-51-002, dated December 20, 2005, specifies to submit certain information to the manufacturer, this AD does not include that requirement.

Restatement of Requirements of AD 2007-15-08, With Revised Compliance Method

Revised Limitations

(l) Within 30 days after August 8, 2007 (the effective date of AD 2007-15-08), revise the ALS of the Instructions for Continued Airworthiness according to a method approved by the Manager, International Branch, ANM-116, Transport Airplane Directorate, FAA.

Note 4: Guidance on revising the ALS can be found in Section 05-10-12, “Mandatory Life Limitations (Airframe—Structures),” dated January 15, 2007; Section 05-10-15, “Mandatory Life Limitations (Powerplant/Engine/APU—Structures),” dated January 15, 2007; and Section 05-10-17, “Structurally Significant Items (SSIs),” dated January 15, 2007; of the BAE Systems (Operations) Limited ATP AMM. The revised sections replace the corresponding sections specified in paragraphs (g) and (h) of this AD.

(m) Except as provided by paragraph (q) of this AD: After the action specified in paragraph (l) of this AD has been accomplished, no alternative inspections or inspection intervals may be approved for the structural elements specified in the documents listed in paragraph (l) of this AD.

New Requirements of This AD

Actions

(n) Within 30 days after the effective date of this AD: Revise the ALS of the Instructions for Continued Airworthiness by incorporating the inspections specified in BAE SYSTEMS (Operations) Limited Inspection Service Bulletin ATP-51-002, Revision 3, dated April 3, 2008. Doing this revision terminates the requirements of paragraph (i) of this AD. The revised Chapter 52 and 53 tasks replace the corresponding Chapter 52 and 53 tasks in Section 05-10-17, “Structurally Significant Items (SSIs),” dated July 15, 2004, of the British Aerospace ATP AMM, as specified in paragraph (h) of this AD. Do the initial inspection for fatigue cracking at the applicable time in Part N., “Approval,” of BAE SYSTEMS (Operations) Limited Inspection Service Bulletin ATP-51-002, Revision 3, dated April 3, 2008.

(o) Except as provided by paragraph (q) of this AD: After the action specified in paragraph (n) of this AD has been accomplished, no alternative inspections or inspection intervals may be approved for the structural elements specified in the documents listed in paragraph (n) of this AD.

(p) Submit a report of the findings (both positive and negative) of all of the inspections required by paragraph (n) of this AD to Customer Engineering Liaison, BAE SYSTEMS Regional Aircraft, Prestwick International Airport, Ayrshire, KA9 2RW, Scotland; telephone: +44 (0) 1292 675289; fax: +44 (0) 1292 675432; at the applicable time specified in paragraph (p)(1) or (p)(2) of this AD. The report must include the inspection results, a description of any discrepancies found, the airplane serial number, and the number of landings and flight hours on the airplane.

(1) If the inspection was done on or after the effective date of this AD: Submit the report within 30 days after the inspection.

(2) If the inspection was done before the effective date of this AD: Submit the report within 30 days after the effective date of this AD.

FAA AD Differences

Note 5: This AD differs from the MCAI and/or service information as follows: No differences.

Other FAA AD Provisions

(q) The following provisions also apply to this AD:

(1) Alternative Methods of Compliance (AMOCs): The Manager, International Branch, FAA, has the authority to approve AMOCs for this AD, if requested using the procedures found in 14 CFR 39.19. Send information to ATTN: Todd Thompson, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(r) Refer to Mandatory Continuing Airworthiness Information (MCAI) EASA Airworthiness Directive 2009-0074, dated March 31, 2009; and BAE SYSTEMS (Operations) Limited Inspection Service Bulletin ATP-51-002, Revision 3, dated April 3, 2008; for related information.

Material Incorporated by Reference

(s) You must use the service information contained in Table 1 of this AD, as applicable, to do the actions required by this AD, unless the AD specifies otherwise.

Table 1—All Material Incorporated by Reference
Document | Revision | Date
BAE SYSTEMS (Operations) Limited Service Bulletin ATP-51-002 | 3 | April 3, 2008.
BAE SYSTEMS (Operations) Limited Service Bulletin ATP-51-002 | Original | December 20, 2005.

(1) The Director of the Federal Register approved the incorporation by reference of the service information contained in Table 2 of this AD under 5 U.S.C. 552(a) and 1 CFR part 51.

Table 2—New Material Incorporated by Reference
Document | Revision | Date
BAE SYSTEMS (Operations) Limited Service Bulletin ATP-51-002 | 3 | April 3, 2008.

(2) The Director of the Federal Register previously approved the incorporation by reference of the service information contained in Table 3 of this AD on September 21, 2006 (71 FR 52418, September 6, 2006).

Table 3—Material Previously Incorporated by Reference
Document | Revision | Date
BAE SYSTEMS (Operations) Limited Service Bulletin ATP-51-002 | Original | December 20, 2005.

(3) For service information identified in this AD, contact BAE SYSTEMS Regional Aircraft, 13850 McLearen Road, Herndon, Virginia 20171; telephone 703-736-1080; e-mail raebusiness@baesystems.com; Internet http://www.baesystems.com/Businesses/RegionalAircraft/index.htm.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on February 16, 2010.
Stephen P. Boyd,
Acting Manager, Transport Airplane Directorate, Aircraft Certification Service.

[FR Doc. 2010-3470 Filed 2-24-10; 8:45 am]

BILLING CODE 4910-13-P